DEPARTMENT OF ENERGY

Federal Energy Regulatory Commission

[Docket No. RP99-496-006]

Southern Natural Gas Company; Notice of Proposed Changes in FERC Gas Tariff

July 7, 2000.

Take notice that on June 30, 2000 Southern Natural Gas Company (Southern) tendered for filing to become part of its FERC Gas Tariff, Seventh Revised Volume No. 1, and First Revised Volume No. 2A, the revised tariff sheets listed on Appendix A to the filing.

Southern filed to place into effect as of August 1, 2000, tariff sheets in compliance with the Commission's Order on Uncontested Settlement and Granting Certificate Authorization issued in the above listed proceedings on May 31, 2000 (Order). Southern filed certain sheets as noted in the filing to be effective either March 1, 2000, June 1, 2000, or July 1, 2000, in accordance with the Stipulation and Agreement approved in the Order. These tariff sheets place into effect the provisions of the Stipulation and Agreement filed by Southern on March 10, 2000, in Docket Nos. RP99-496-000, et al., which provided for a full resolution of the issues that had been set for hearing in Southern's Section 4 general rate case and included Southern's acquisition of the facilities and assets of its subsidiary, South Georgia Natural Gas Company, and the conversion of Southern's ANR Storage Transportation Service from a Part 157 certificated service to a Part 284 seasonal service under Southern's FT Rate Schedule. As a matter of administrative convenience, Southern filed all of the affected tariff sheets in the instant filing.

Southern states that copies of the revised tariff sheets are being mailed to Southern's jurisdictional customers and interested state commissions and to parties on the official service list compiled by the Secretary in these proceedings.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-17739 Filed 7-12-00; 8:45 am]

BILLING CODE 6717-01-M